DEPARTMENT OF LABOR

Employment and Training Administration

Notice of a Virtual Meeting of the Advisory Committee on Apprenticeship (ACA)

AGENCY: Employment and Training Administration (ETA), Labor.

ACTION: Notice of a virtual meeting.

SUMMARY: Pursuant to Section 10 of the Federal Advisory Committee Act (FACA) (5 U.S.C. App. 2 § 10), notice is hereby given to announce an open virtual meeting of the Advisory Committee on Apprenticeship (ACA) on January 17, 2013, which can be accessed from the Office of Apprenticeship's (OA) homepage: http://www.doleta.gov/oa/. The ACA is a discretionary committee established by the Secretary of Labor, in accordance with FACA, as amended in 5 U.S.C. App. 2, and its implementing regulations (41 CFR 101-6 and 102-3). All meetings of the ACA are open to the public. A virtual meeting of the ACA provides a cost savings to the government while still offering a venue that allows for public participation and transparency, as required by FACA.

DATES: The meeting will begin at approximately 1 p.m. Eastern Time on Thursday, January 17, 2013, and will adjourn at approximately 3 p.m.

FOR FURTHER INFORMATION CONTACT: The Designated Federal Official, Mr. John V. Ladd, Administrator, Office of Apprenticeship, Employment and Training Administration, U.S. Department of Labor, 200 Constitution Avenue NW., Room N-5311, Washington, DC 20210, Telephone: (202) 693-2796, (this is not a toll-free number).

SUPPLEMENTARY INFORMATION: This virtual meeting will take place via webinar and audio-video conferencing technology. Web and audio instructions to participate in this meeting will be prominently posted on the OA homepage: http://www.doleta.gov/oa/. Members of the public are encouraged to attend the meeting virtually. For members of the public wishing to attend in person, a listening room with limited seating will be made available upon request. The location for the listening room will be: U.S. Department of Labor, Frances Perkins Building, 200 Constitution Avenue NW., Washington, DC 20210.

The agenda may be updated should priority items come before the Committee between the time of this publication and the scheduled date of the ACA meeting.

All meeting updates will be posted to OA's homepage: http://www.doleta.gov/oa/. All meeting participants, whether attending virtually or in person, should submit a notice of intention to attend by Thursday, January 17, 2013, via email to Mr. John V. Ladd at oa.administrator@dol.gov, subject line “Virtual ACA Meeting.” The webinar will be limited to 200 participants, unless OA receives more than 200 submissions to attend. If individuals have special needs and/or disabilities that will require special accommodations, please contact Kenya Huckaby on (202) 693-3795 no later than Thursday, January 17, 2013.

Any member of the public who wishes to file written data or comments pertaining to the agenda may do so by sending the data or comments to Mr. John V. Ladd via email at oa.administrator@dol.gov, subject line `Virtual ACA Meeting,” or submitting to the Office of Apprenticeship, Employment and Training Administration, U.S. Department of Labor, Room N-5311, 200 Constitution Avenue NW., Washington, DC 20210. Such submissions will be included in the record for the meeting if received by Thursday, January 17, 2013.

Purpose of the Meeting and Topics To Be Discussed

The primary purpose of the meeting is to provide the ACA with an opportunity to reconvene to discuss and finalize their recommendations to the Secretary of Labor, and to consider additional reports, white papers, and upcoming events. The meeting agenda will include the following:

□ Final Recommendations and Report to the Secretary on 21st Century Registered Apprenticeship

□ Finalize and Approve a White Paper on Supporting Partnerships with Sponsors of Registered Apprenticeship and Community Based Organizations (CBO)

□ Update on Efforts to Improve Opportunities for Veterans

□ Other Matters of Interest to the Apprenticeship Community

□ Public Comment

Any member of the public who wishes to speak at the meeting should indicate the nature of the intended presentation and the amount of time needed by furnishing a written statement to the Designated Federal Official, Mr. John V. Ladd, by Thursday, January 17, 2013. The Chairperson will announce at the beginning of the meeting the extent to which time will permit the granting of such requests.

Signed at Washington, DC, this 6th day of December, 2012.
Jane Oates,
Assistant Secretary for the Employment and Training Administration.

[FR Doc. 2012-30529 Filed 12-18-12; 8:45 am]

BILLING CODE 4510-FR-P